DEPARTMENT OF DEFENSE

Department of the Army, Corps of Engineers

Final Notice of Issuance and Modification of Nationwide Permits

AGENCY: Army Corps of Engineers, DoD.

ACTION: Correction.

SUMMARY: This document contains corrections to the final notice of issuance and modification of Nationwide Permits (NWPs) which was published in the Federal Register on Thursday, March 9, 2000 (65 FR 12818-12899). On pages 12818, 12819, 12822, 12841, and 12861 the date “June 5, 2000” is to be replaced with “June 7, 2000.” June 7, 2000, is the correct effective date for the new and modified NWPs, as well as the correct expiration date for NWP 26.

In summary, NWP 26 will expire on June 7, 2000. The new and modified NWPs, including the new and modified NWP general conditions, will become effective on June 7, 2000. States and Tribes must make their Section 401 Water Quality Certification and Coastal Zone Management Act consistency determinations by June 7, 2000.

In addition, there were some inconsistencies concerning the economic and workload cost estimates in the March 9, 2000, Federal Register notice. The ½ acre alternate replacement NWP package in the Institute for Water Resources (IWR) report is similar to the new NWPs published in the March 9, 2000, Federal Register notice. We have concluded that the economic impacts and costs are approximately the same for both. On page 12820, we correctly stated that the IWR report indicated that the ½ acre alternative replacement NWP package would result in direct compliance costs that are approximately 30% less than the $46 million in direct compliance costs that would be incurred by permit applicants due to the July 21, 1999, proposal. Based on these assumptions, the alternate replacement NWP package would result in approximately $32 million in direct compliance costs incurred by permit applicants. However, on page 12819 we incorrectly indicated an increase in direct costs to permit applicants of approximately $20 million; the correct amount is approximately $32 million.

Dated: March 10, 2000.
Approved by:
Charles M. Hess,
Chief, Operations Division, Office of Deputy Commanding General for Civil Works.

[FR Doc. 00-6498 Filed 3-15-00; 8:45 am]

BILLING CODE 3710-92-P